DEPARTMENT OF LABOR

Office of the Secretary

All Items Consumer Price Index for All Urban Consumers; United States City Average

Pursuant to section 112 of the 1976 amendments to the Federal Election Campaign Act, 52 U.S.C. 30116(c), the Secretary of Labor has certified to the Chairman of the Federal Election Commission and publishes this notice in the Federal Register that the United States City Average All Items Consumer Price Index for All Urban Consumers (CPI-U) (1967=100) increased 449.6 percent from its 1974 annual average of 147.7 to its 2021 annual average of 811.705 and that it increased 53.0 percent from its 2001 annual average of 530.4 to its 2021 annual average of 811.705. Using 1974 as a base (1974=100), I certify that the CPI-U increased 449.6 percent from its 1974 annual average of 100 to its 2021 annual average of 549.563. Using 2001 as a base (2001=100), I certify that the CPI-U increased 53.0 percent from its 2001 annual average of 100 to its 2021 annual average of 153.036. Using 2006 as a base (2006=100), I certify that the CPI-U increased 34.4 percent from its 2006 annual average of 100 to its 2021 annual average of 134.410.

Signed at Washington, DC.
Martin J. Walsh,
Secretary of Labor.

[FR Doc. 2022-20076 Filed 9-15-22; 8:45 am]

BILLING CODE 4510-24-P